ENVIRONMENTAL PROTECTION AGENCY

[EPA-HQ-OPPT-2016-0082; FRL-9952-62]

Certain New Chemicals; Receipt and Status Information for June 2016

AGENCY: Environmental Protection Agency (EPA).

ACTION: Notice.

SUMMARY: EPA is required under the Toxic Substances Control Act (TSCA) to publish in the Federal Register a notice of receipt of a Premanufacture notice (PMN); an application for a test marketing exemption (TME), both pending and/or expired; and a periodic status report on any new chemicals under EPA review and the receipt of notices of commencement (NOC) to manufacture those chemicals. This document covers the period from June 22, 2016 to June 30, 2016.

DATES: Comments identified by the specific case number provided in this document, must be received on or before November 28, 2016.

ADDRESSES: Submit your comments, identified by docket identification (ID) number EPA-HQ-OPPT-2016-0025, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from June 22, 2016 to June 30, 2016, and consists of the PMNs and TMEs both pending and/or expired, and the NOCs to manufacture a new chemical that the Agency has received under TSCA section 5 during this time period.

President Obama signed new TSCA legislation on June 22, 2016. TSCA subsection 5(a) notices, which were submitted prior to signature of the law, but were still within the review period on June 22 (i.e., typically the 90-day review period), will have determinations made in accordance with the new law. EPA views all section 5(a) notices that were within the notice period, as of June 22, 2016, as having been refiled on that date, thereby restarting the 90-day review clock on June 22, 2016. This follows from the manner in which the TSCA legislation defines the “applicable review period,” a statutory phrase that did not exist before the amendments to TSCA. New TSCA section 5(i)(3) states that the applicable review period “means the period starting on the date the Administrator receives a notice under subsection (a)(1).” EPA interprets this cross-reference as a reference to TSCA subsection (a)(1), as amended. Thus, in the case of a notice submitted prior to the date of enactment, the earliest possible date on which that notice could be viewed as submitted “under subsection (a)(1),” is June 22, 2016, the first date on which that subsection was in legal effect.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a notice before initiating the activity. TSCA furthermore prohibits such manufacturing or processing from commencing until EPA has conducted a review of the notice, made an appropriate determination on the notice, and taken such actions as are required in association with that determination (15 U.S.C. 2604(a)(1)(B)(ii)). Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 349 PMNs received by EPA during this period, the table provides the following information (to the extent that such information is not claimed as CBI): The EPA case number assigned to the PMN; the date the PMN was received by EPA; the projected end date for EPA's review of the PMN; the submitting manufacturer/importer; the potential uses identified by the manufacturer/importer in the PMN; and the chemical identity.

Table—PMNs Received From June 1, 2016 to June 30, 2016
Case No. | Date received | Projected end date for EPA review | Manufacturer importer | Use(s) | Chemical identity
P-09-0378 | 6/22/2016 | 9/19/2016 | CBI | (G) Solvent | (G) Hydrofluorocarbon.
P-09-0629 | 6/22/2016 | 9/19/2016 | Santolubes, LLC | (S) This substance will be a raw material for a flame retardant product used in the plastics | (S) Bis(para-phenoxyphenyl)ether.
P-10-0017 | 6/22/2016 | 9/19/2016 | CBC (America) Corporation | (G) Sealant application | (S) Phenol, 4,4′-(1-methylethylidene)bis-, polymer with 2-(chloromethyl)oxirane, hydrogenated.
P-10-0494 | 6/22/2016 | 9/19/2016 | CBI | (G) Intermediate chemical product | (G) Polyphenol ether.
P-10-0542 | 6/22/2016 | 9/19/2016 | CBI | (G) Used as an ingredient in manufacture of a polymer binder meant to adhere glass fibers together | (G) Amide, polyprotic acid.
P-11-0148 | 6/22/2016 | 9/19/2016 | Ineos Oligomers | (G) Industrial applications | (S) Hydrocarbons, c4, 1,3-butadiene-free, polymd., triisobutylene fraction, hydrogenated.
P-11-0593 | 6/22/2016 | 9/19/2016 | CBI | (G) Component of polyurethane foam | (G) Formaldehydem reaction products with alkylphenol and diethanolamine, alkoxy alkylated.
P-11-0647 | 6/22/2016 | 9/19/2016 | CBI | (G) Water and oil repellent | (G) Perfluoroalkylethyl methacrylate copolymer.
P-12-0085 | 6/22/2016 | 9/19/2016 | CBI | (G) Finishing agent for textile | (G) Substituted-dioxaphosphorinane, 2-([1,1′-biphenyl]-2-yloxy)-5,5-dialkyl-, 2-oxide.
P-12-0089 | 6/22/2016 | 9/19/2016 | BrueggeMann Chemical U.S., Inc | (G) Zinc is a natural essential element, which is needed for the optimal growth and development of all living organisms including man all living organisms have homeostasis mechanisms that actively regulate zinc uptake and absorption excretion from the body due to this regulations zinc and zinc compounds do not bioaccumulate or biomagnify most common technical function of substance (what it does) food/feedstuff additives process regulators other than polymerisation or vulcanisation processes lubricants and lubricant additives laboratory chemicals ph-regulating agents fertilizers | (S) Carbonic acid, zinc salt, basic.
P-12-0277 | 6/22/2016 | 9/19/2016 | CBI | (G) Platicizer and lubricant with flame retardant properties | (G) Chloro alkanes.
P-12-0278 | 6/22/2016 | 9/19/2016 | CBI | (G) Platicizer and lubricant with flame retardant properties | (G) Chloro alkanes.
P-12-0279 | 6/22/2016 | 9/19/2016 | CBI | (G) Platicizer and lubricant with flame retardant properties | (G) Chloro alkanes.
P-12-0280 | 6/22/2016 | 9/19/2016 | CBI | (G) Platicizer and lubricant with flame retardant properties | (G) Chloro alkanes.
P-12-0281 | 6/22/2016 | 9/19/2016 | CBI | (G) Platicizer and lubricant with flame retardant properties | (G) Chloro alkanes.
P-12-0282 | 6/22/2016 | 9/19/2016 | CBI | (G) Platicizer and lubricant with flame retardant properties | (G) Chloro alkanes.
P-12-0283 | 6/22/2016 | 9/19/2016 | CBI | (G) Platicizer and lubricant with flame retardant properties | (G) Chloro alkanes.
P-12-0284 | 6/22/2016 | 9/19/2016 | CBI | (G) Metal working fluid additive | (G) Chloro alkanes.
P-12-0291 | 6/22/2016 | 9/19/2016 | CBI | (G) Additive, open, non-dispersive use | (G) Fluoroalkyl modified polydimethylsiloxane.
P-12-0399 | 6/22/2016 | 9/19/2016 | CBI | (G) Paper treatment | (G) Perfluoroalkylethyl methacrylate copolymer, sodium salt.
P-12-0433 | 6/22/2016 | 9/19/2016 | Ineos Chlor Americas | (G) Additive | (S) Alkanes, c18-20, chloro.
P-12-0453 | 6/22/2016 | 9/19/2016 | Ineos Chlor Americas | (G) Additive | (S) Alkanes, c14-17, chloro.
P-12-0505 | 6/22/2016 | 9/19/2016 | Ineos Chlor Americas | (G) Additive | (S) Alkanes, c22-30, chloro.
P-13-0021 | 6/22/2016 | 9/19/2016 | CBI | (S) Surface protection agent for use in building materials | (G) Perfluoroacrylate polymer.
P-13-0022 | 6/22/2016 | 9/19/2016 | CBI | (S) Surface protection agent for use in building materials | (G) Perfluoroacrylate polymer.
P-13-0287 | 6/22/2016 | 9/19/2016 | CBI | (G) Curing agent; starting material for curing agent | (G) Cyanoethylated diamine.
P-13-0307 | 6/22/2016 | 9/19/2016 | CBI | (G) Component of manufactured consumer article—contained use | (G) Substituted carbocycle, n-[[[4-[[(4-substituted carbocyclic)amino]sulf onyl]carbocyclic]amino]carbonyl]-4-methyl-
P-13-0323 | 6/22/2016 | 9/19/2016 | CBI | (G) Additive for foam applications | (G) Phosphonic acid, [1[(5,5-dialkyl-2-substituted-substituted heteromonocycle]-1-alkyl]-, dialkyl ester.
P-13-0377 | 6/22/2016 | 9/19/2016 | CBI | (G) Water and oil repellent | (G) Perfluoroalkylethyl methacrylate copolymer.
P-13-0382 | 6/22/2016 | 9/19/2016 | CBI | (G) Plastics | (G) Castor oil, reaction products with an alcohol amine.
P-13-0520 | 6/22/2016 | 9/19/2016 | Alberdingk Boley Inc | (S) Coatings for wood metal and plastic | (G) Aromatic dicarboxylic acid, polymer with cycloalkanemethanol, alkanediamine, alkanedioic acid, hydroxy-2-(hydroxyalkyl)-2-alkylcarboxylic acid, methylenebis[isocyanat ocycloalkane] and (methylethylidene)bis)phenyleneoxy)]bis[alkan ol], compd. with dialkylamino ethanol.
P-13-0521 | 6/22/2016 | 9/19/2016 | Alberdingk Boley, Inc | (S) Coatings for wood metal and plastic | (G) Aromatic dicarboxylic acid, polymer with alkanediamine, alkane dioic acid, alkanediol, hydroxy-2-(hydroxymethyl)-2-alkyl carboxylic acid, methylenebis [isocyanatocycloalkane] and [(alkylethylidene) bis(phenyleneoxy)]bis[alkanol], compd. with dialkylethanamine.
P-13-0720 | 6/22/2016 | 9/19/2016 | Nano-C, Inc | (S) Additive for fibers in fabrics; (S) Additive for fibers in structural and electrical applications; (S) Additive for transparency and conductivity in electronic devices; (S) Additive in lubricants and grease to improve wear resistance; (S) Additive to improve the strength and durability of materials and batteries; (S) Catalyst support for use in fuel cells; (S) Coating additive to improve corrosion resistance of metals; (S) Use as a nonporous network in gas diffusion layers; (S) Use as a semi-conductor, conductive, or resistive element in electronic circuitry and devices; (S) Use as an electromechanical switch in electronic circuitry and devices; (S) Use in film laminates to improve structural, electrical, or electrochemical properties of composite; (S) Use in separation of chemicals; (S) Use with materials to improve mechanical properties or electrical conductivities | (G) Single-walled carbon nanotubes.
P-13-0883 | 6/22/2016 | 9/19/2016 | CBI | (G) Corrosion inhibitor for down-hole well treatment and pipelines used in the oil and gas industry | (G) Fatty acids, tall oil, reaction products with polyamine, 2-mercaptoacetate.
P-14-0053 | 6/22/2016 | 9/19/2016 | Takasago | (S) Fragrance in deodorants and cosmetics; (S) Fragrance in fine fragrance; (S) Fragrance in household products such as laundry; detergents and air fresheners; (S) Fragrance in shampoos and body washes | (S) 2-pentanone, 3-methyl-5-(2,2,3-trimethylcyclopentyl)-
P-14-0055 | 6/22/2016 | 9/19/2016 | Takasago | (S) Fragrance in deodorants and cosmetics; (S) Fragrance in fine fragrance; (S) Fragrance in household products such as laundry detergents and air; Fresheners; (S) Fragrance in shampoos, body wash | (S) Cyclohexanecarboxylic acid, 2,2,6-trimethyl-,2-propen-1-yl ester.
P-14-0073 | 6/22/2016 | 9/19/2016 | CBI | (G) Manufacturing intermediate | (G) Fluorinated alcohol.
P-14-0093 | 6/22/2016 | 9/19/2016 | CBI | (G) Resin for coatings | (G) Phenol, bis alkylalylidene-, polymer with haloalkyl hetermonocycle, alkylhexanoate, reaction products with substituted amines.
P-14-0094 | 6/22/2016 | 9/19/2016 | CBI | (G) Crosslinking agent | (G) Substituted polyalkylene polycarbomonocyclic ester, 2-alkoxyethanol- and dialkylene glycol alkyl ether-blocked.
P-14-0246 | 6/22/2016 | 9/19/2016 | Shell Chemical, LP | (S) Cleaning adn inks; (S) Electronics; (S) Other solvents; (S) Paint and coating | (S) 2-propanol, 1-ethoxy-, 2-acetate.
P-14-0266 | 6/22/2016 | 9/19/2016 | CBI | (G) Functions as an oil-soluble corrosion inhibitor for use in oil and gas wells and pipelines | (G) Tall oil fatty acid diethylenetriamine compds. with substituted polyethylene glycol ether.
P-14-0314 | 6/22/2016 | 9/19/2016 | CBI | (G) Industrial flame retardant | (G) Poly aliphatic phosphate.
P-14-0321 | 6/22/2016 | 9/19/2016 | CBI | (G) Site-limited isolated and recycled intermediate | (G) Hydrochlorofluoroprop ene.
P-14-0323 | 6/22/2016 | 9/19/2016 | CBI | (G) Site-limited, isolated and recycled intermediate | (G) Hydrochlorofluoroprop ene.
P-14-0472 | 6/22/2016 | 9/19/2016 | CBI | (G) Site Controlled Intermediate | (G) Polyphosphoric acids, 2-[alkyl-1-oxo-2-propen-1-yl)oxy]ethyl esters, compds. with n-(aminoiminomethyl)ure a.
P-14-0481 | 6/22/2016 | 9/19/2016 | CBI | (G) Base material in industrial rubber synthesis; (G) Base material in industrial rubber synthesis | ((G) Alkene, hexasubstituted, telomer with disubstituted alkene and polysubstituted alkane.
P-14-0482 | 6/22/2016 | 9/19/2016 | CBI | (G) Industrial chemical | (G) Organic salt.
P-14-0485 | 6/22/2016 | 9/19/2016 | CBI | (G) Fuel cell component | (G) Rare earth oxide.
P-14-0496 | 6/22/2016 | 9/19/2016 | CBI | (G) Paper additive | (G) Polyphosphoric acids, 2-[(alkyl-1-oxo-2-propen-1-yl)oxy]ethyl esters, compds. with n-(aminoiminomethyl)ure a, polymers with bu acrylate, n-(hydroxymethyl)-2-propenamide and styrene.
P-14-0574 | 6/22/2016 | 9/19/2016 | CBI | (G) Open non-dispersive use; dispersive use | (G) Fatty acid esters with polyol.
P-14-0627 | 6/22/2016 | 9/19/2016 | CBI | (S) Solvent in a variety of applications; laboratory chemical/solvent; cleaning agent | (G) Cyclic amide.
P-14-0630 | 6/22/2016 | 9/19/2016 | CBI | (S) Pigment for liquid coatings solvent based system; (S) Pigment for polymer materials; (S) Pigment for powder coatings | (S) Bismuth bromide iodide oxide.
P-14-0636 | 6/22/2016 | 9/19/2016 | CBI | (S) Functional resin coating/protective coating; functional resin insulating glass sealant; functional resin aerospace sealant | (G) Chloroalkane, polymer with chloroalkoxyalkane and sodium sulfide (na2sx).
P-14-0637 | 6/22/2016 | 9/19/2016 | CBI | (G) Textile treatment | (G) Perfluoroalkylethyl methacrylate copolymer.
P-14-0642 | 6/22/2016 | 9/19/2016 | CBI | (S) Low foam surfactant for the autodishwasher market; low foam surfactant for the household cleaning market | (S) Oxirane, 2-ethyl-, polymer with oxirane, mono-c12-16-alkyl ethers.
P-14-0683 | 6/22/2016 | 9/19/2016 | Qualice, LLC | (S) Extreme pressure additive in lubricants; (S) Flame retardant in rubber products | (S) Tetradecane, chloro derivatives.
P-14-0684 | 6/22/2016 | 9/19/2016 | Qualice, LLC | (S) Extreme pressure additive in lubricants; (S) Flame retardant in rubber products | (S) Alkanes, c14-16, chloro.
P-14-0758 | 6/22/2016 | 9/19/2016 | CBI | (G) Urethane foam | (G) Polyamine-based polyol.
P-14-0829 | 6/22/2016 | 9/19/2016 | CBI | (S) Surfactant for use in paints, coatings, inks, waxes, detergents, polishes, adhesives, and lubricants | (G) Perfluropolyethylene glycol polymer.
P-14-0865 | 6/22/2016 | 9/19/2016 | CBI | (G) Isolated intermediate | (G) Aromatic amide oxime.
P-15-0029 | 6/22/2016 | 9/19/2016 | Maroon, Inc | (S) Antioxidant for plastics | (S) 2,4,8,10-tetraoxa-3,9-diphosphaspiro[5.5]und ecane,3,9-bis[2-(1-methyl-1-phenylethyl)-4-(1,1,3,3-tetramethylbutyl)pheno xy]-
P-15-0106 | 6/22/2016 | 9/19/2016 | CBI | (G) Mining and fuel additive | (G) Alkene reaction and distillation by-products and residues.
P-15-0114 | 6/22/2016 | 9/19/2016 | CBI | (S) Dielectric medium; heat transfer | (S) 2-butanone, 1,1,1,3,4,4,4-heptafluoro-3-(trifluoromethyl)-
P-15-0123 | 6/22/2016 | 9/19/2016 | CBI | (S) Fragrance ingredient for use in fragrances for soaps, detergents, cleaners and other household products | (G) Alkyl substituted 5-benzofuranol.
P-15-0310 | 6/22/2016 | 9/19/2016 | Sasol Chemicals (USA), LLC | (S) Lubricant in special chain oils for conveyor belts | (S) 1,2,4-benzenetricarboxylic acid, mixed decyl and octyl triesters.
P-15-0320 | 6/22/2016 | 9/19/2016 | CBI | (S) Dielectric medium | (S) Propanenitrile, 2,3,3,3-tetrafluoro-2-(trifluoromethyl)-
P-15-0353 | 6/22/2016 | 9/19/2016 | CBI | (G) Lubricant additive | (G) Chlorinated complex ester.
P-15-0357 | 6/22/2016 | 9/19/2016 | CBI | (G) Raw material for thermal paper manufacture | (G) Benzenesulfonamide, phenyl substituted carbonyl.
P-15-0372 | 6/22/2016 | 9/19/2016 | CBI | (G) Surfactant | (G) 1,3-propanediamine, n1-alky,-, carboxymethyl derivs`
P-15-0377 | 6/22/2016 | 9/19/2016 | PCCR USA, Inc | (S) Plasticizer in automotive parts; (S) Plasticizer in pvc cables | (S) 1,2,4-benzenetricarboxylic acid, 1,2,4-trionyl ester.
P-15-0386 | 6/22/2016 | 9/19/2016 | CBI | (G) Ingredient for consumer products, dispersive use | (S) 2-cyclohexen-1-ol, 2-methyl-5-(1-methylethenyl)-, 1-acetate, (1r,5r)-
P-15-0387 | 6/22/2016 | 9/19/2016 | CBI | (G) Industrial coating polymer | (G) Modified fluoroalkyl acrylate copolymer.
P-15-0392 | 6/22/2016 | 9/19/2016 | Polynt S.P.A | (S) Plasticizer for pvc powders for car interiors manufacturing; plasticizer for pvc compounds for cables | (S) 1,2,4-benzenetricarboxylic acid, mixed decyl and octyl triesters.
P-15-0419 | 6/22/2016 | 9/19/2016 | CBI | (G) Flame retardant material | ((G) 2,2-bis[3′,5′-dihalo-4′-haloalkyloxy carbomonocycle] propane.
P-15-0433 | 6/22/2016 | 9/19/2016 | CBI | (G) Lubricant additive | (G) Chlorinated complex ester.
P-15-0436 | 6/22/2016 | 9/19/2016 | CBI | (G) Stain block, surfactant, and antiblock agent | (G) Anionic aqueous fluorochemical dispersion.
P-15-0442 | 6/22/2016 | 9/19/2016 | CBI | (G) Catalyst | (G) Rare earth doped zirconium oxide.
P-15-0443 | 6/22/2016 | 9/19/2016 | CBI | (G) Catalyst | (G) Rare earth doped zirconium oxide.
P-15-0444 | 6/22/2016 | 9/19/2016 | CBI | (G) Catalyst | (G) Rare earth doped zirconium oxide.
P-15-0445 | 6/22/2016 | 9/19/2016 | CBI | (G) Catalyst | (G) Rare earth doped zirconium oxide.
P-15-0446 | 6/22/2016 | 9/19/2016 | CBI | (G) Catalyst | (G) Rare earth doped zirconium oxide.
P-15-0447 | 6/22/2016 | 9/19/2016 | CBI | (G) Catalyst | (G) Rare earth doped zirconium oxide.
P-15-0450 | 6/22/2016 | 9/19/2016 | CBI | (G) Mixed metal oxide for batteries | (G) Lithium mixed metal oxide.
P-15-0469 | 6/22/2016 | 9/19/2016 | CBI | (G) Surfactant | (G) Glycerides, c8-18 and c18 unsaturated, from fermentation.
P-15-0474 | 6/22/2016 | 9/19/2016 | xF Technologies | (S) Organic solvent; (S) Plasticizer | (S) 2-furancarboxylic acid, 5-methyl-, ethyl ester.
P-15-0475 | 6/22/2016 | 9/19/2016 | xF Technologies | (S) Organic solvent; (S) Plasticizer | (S) 2-furancarboxylic acid, 5-methyl-, methyl ester.
P-15-0476 | 6/22/2016 | 9/19/2016 | xF Technologies | (S) Organic solvent; (S) Plasticizer | (S) 2-furancarboxylic acid, 5-methyl-, 1-methylethyl ester.
P-15-0477 | 6/22/2016 | 9/19/2016 | xF Technologies | (S) Organic solvent; (S) Plasticizer | (S) 2-furancarboxylic acid, 5-methyl-, tetradecyl ester.
P-15-0478 | 6/22/2016 | 9/19/2016 | xF Technologies | (S) Organic solvent; (S) Plasticizer | (S) 2-furancarboxylic acid, 5-methyl-, 2,2′-[ethanediylbis(oxy-2,1-ethanediyl) ester.
P-15-0479 | 6/22/2016 | 9/19/2016 | xF Technologies | (S) Organic solvent; (S) Plasticizer | (S) 2-furancarboxylic acid, 5-methyl-, 2,2′-[oxybis(methyl-2,1-ethanediyl)] ester.
P-15-0481 | 6/22/2016 | 9/19/2016 | CBI | (S) Curing agent for epoxy coating systems | (G) Benzaldehyde, reaction products with polyalkylenepolyamine s, hydrogenated, reaction products with alkyl ketone.
P-15-0487 | 6/22/2016 | 9/19/2016 | Daewoo International USA Corp | (S) Additive for fibers in structural and electrical applications; additive for fibers in fabrics and textiles; (S) Additive for heat transfer and thermal emissions in electronic devices and materials; use as a semi-conductor, conductive, or resistive element in electronic circuitry and devices; (S) Additive for weight reduction in materials; (S) Use as a catalyst support in chemical manufacturing; Coating additive to improve corrosion resistance or conductive properties; (S) Use as a filter additive to remove nanoscale materials; use as a semi-conducting compounding additive for high-voltage cable; use as an additive for super-hydrophobicity; (S) Use as a heat-generating element in heating devices and materials; (S) Use as an additive for electro-static discharge (esd) in electronic devices, electronics, and materials; (S) Use as an additive for electromagnetic interface (emi) shielding in electronic devices; additive for electrodes in electronic materials and electronic devices; (S) Use as an additive to improve conductivity in electronic circuitry energy storage systems, and devices; use as an electron emitter for lighting and x-ray sources. (S) Use with materials to improve mechanical properties or electrical conductivities | (G) Multi-walled carbon nanotubes.
P-15-0488 | 6/22/2016 | 9/19/2016 | Daewoo International USA Corp | (S) Additive for fibers in structural and electrical applications; additive for fibers in fabrics and textiles; (S) Additive for heat transfer and thermal emissions in electronic devices and materials; use as a semi-conductor, conductive, or resistive element in electronic circuitry and devices; (S) Additive for weight reduction in materials; (S) Use as a catalyst support in chemical manufacturing; coating additive to improve corrosion resistance or conductive properties; (S) Use as a filter additive to remove nanoscale materials; use as a semi-conducting compounding additive for high-voltage cable; use as an additive for super-hydrophobicity; (S) Use as a heat-generating element in heating devices and materials; (S) Use as an additive for electro-static discharge (esd) in electronic devices, electronics, and materials; (S) Use as an additive for electromagnetic interface (emi) shielding in electronic devices; additive for electrodes in electronic materials and electronic devices; (S) Use as an additive to improve conductivity in electronic circuitry, energy storage systems, and devices; use as an electron emitter for lighting and x-ray sources. (S) Use with materials to improve mechanical properties or electrical conductivities | (G) Multi-walled carbon nanotubes.
P-15-0489 | 6/22/2016 | 9/19/2016 | Daewoo International USA Corp | (S) Additive for fibers in structural and electrical applications; additive for fibers in fabrics and textiles; (S) Additive for heat transfer and thermal emissions in electronic devices and materials; use as a semi-conductor, conductive, or resistive element in electronic circuitry and devices; (S) Additive for weight reduction in materials; (S) Use as a catalyst support in chemical manufacturing; coating additive to improve corrosion resistance or conductive properties; (S) Use as a filter additive to remove nanoscale materials; use as a semi-conducting compounding additive for high-voltage cable; use as an additive for super-hydrophobicity; (S) Use as a heat-generating element in heating devices and materials; (S) Use as an additive for electro-static discharge (esd) in electronic devices, electronics, and materials. (S) Use as an additive for electromagnetic interface (emi) shielding in electronic devices; additive for electrodes in electronic materials and electronic devices; (S) Use as an additive to improve conductivity in electronic circuitry energy storage systems, and devices; use as an electron emitter for lighting and x-ray sources. (S) Use with materials to improve mechanical properties or electrical conductivities | (G) Multi-walled carbon nanotubes.
P-15-0490 | 6/22/2016 | 9/19/2016 | Daewoo International USA Corp | (S) Additive for fibers in structural and electrical applications; additive for fibers in fabrics and textiles; (S) Additive for heat transfer and thermal emissions in electronic devices and materials; use as a semi-conductor, conductive, or resistive element in electronic circuitry and devices; (S) Additive for weight reduction in materials; (S) Use as a catalyst support in chemical manufacturing; coating additive to improve corrosion resistance or conductive properties; (S) Use as a filter additive to remove nanoscale materials; use as a semi-conducting compounding additive for high-voltage cable; use as an additive for super-hydrophobicity; (S) Use as a heat-generating element in heating devices and materials. (S) Use as an additive for electro-static discharge (esd) in electronic devices, electronics, and materials; (S) Use as an additive for electromagnetic interface (emi) shielding in electronic devices; additive for electrodes in electronic materials and electronic devices; (S) Use as an additive to improve conductivity in electronic circuitry, energy storage systems, and devices; use as an electron emitter for lighting and x-ray sources; (S) Use with materials to improve mechanical properties or electrical conductivities | (G) Multi-walled carbon nanotubes.
P-15-0491 | 6/22/2016 | 9/19/2016 | Daewoo International USA Corp | (S) Additive for fibers in structural and electrical applications; additive for fibers in fabrics and textiles; (S) Additive for heat transfer and thermal emissions in electronic devices and materials; use as a semi-conductor, conductive, or resistive element in electronic circuitry and devices; (S) Additive for weight reduction in materials; (S) Use as a catalyst support in chemical manufacturing; coating additive to improve corrosion resistance or conductive properties; (S) Use as a filter additive to remove nanoscale materials; use as a semi-conducting compounding additive for high-voltage cable; use as an additive for super-hydrophobicity; (S) Use as a heat-generating element in heating devices and materials; (S) Use as an additive for electro-static discharge (esd) in electronic devices, electronics, and materials; (S) Use as an additive for electromagnetic interface (emi) shielding in electronic devices; additive for electrodes in electronic materials and electronic devices; (S) Use as an additive to improve conductivity in electronic circuitry, energy storage systems, and devices; use as an electron emitter for lighting and x-ray sources. (S) Use with materials to improve mechanical properties or electrical conductivities | (G) Multi-walled carbon nanotubes.
P-15-0506 | 6/22/2016 | 9/19/2016 | CBI | (G) Component in cleaning formulation | (G) Alkyl phosphate ammonium salt.
P-15-0525 | 6/22/2016 | 9/19/2016 | CBI | (G) Catalyst | (G) Rare earth doped zirconium oxide.
P-15-0526 | 6/22/2016 | 9/19/2016 | CBI | (G) Catalyst | (G) Rare earth doped zirconium oxide.
P-15-0527 | 6/22/2016 | 9/19/2016 | CBI | (G) Catalyst | (G) Rare earth doped zirconium oxide.
P-15-0528 | 6/22/2016 | 9/19/2016 | CBI | (G) Catalyst | (G) Rare earth doped zirconium oxide.
P-15-0540 | 6/22/2016 | 9/19/2016 | CBI | (S) Chemical intermediate in the production of poly[oxy(methyl-1,2-ethanediyl)],a-sulfo-w-hydroxy-c10-16-alkyl ethers cas # 1497417-15-8, and/or sodium salt of same | (S) Alcohols, c10-16, propoxylated.
P-15-0562 | 6/22/2016 | 9/19/2016 | CBI | (S) Pigment for automotive coatings to be used in automotive oem and refinish | (G) Substituted alkylsilanes, reaction products with a mixture of metal oxides.
P-15-0580 | 6/22/2016 | 9/19/2016 | CBI | (G) Coating | (G) Cycloaliphatic epoxy.
P-15-0584 | 6/22/2016 | 9/19/2016 | The Lewis Chemical Company | (S) Foaming agent in industrial or hard surface cleaners | (S) Amides, coco, n,n-bis(2-hydroxypropyl).
P-15-0597 | 6/22/2016 | 9/19/2016 | CBI | (S) Dispersing agent for use in paints, pigments, and coatings. | (G) Polyethylene glycol alkyl ether, sodium salt.
P-15-0632 | 6/22/2016 | 9/19/2016 | CBI | (S) Salt for polymer | (G) Mixed amine salt.
P-15-0633 | 6/22/2016 | 9/19/2016 | Firmenich, Inc | (G) As part of a fragrance formula (dispersive use) | (S) 1(2h)-naphthalenone,4-ethyloctahydro-8-methyl.
P-15-0653 | 6/22/2016 | 9/19/2016 | CBI | (G) Coating | (G) Cycloaliphatic epoxide.
P-15-0697 | 6/22/2016 | 9/19/2016 | CBI | (S) Boron-free, ferrous corrosion inhibitor for water-based metalworking fluids | (G) Alkyl alkylenetriamine compd. with alkanol ethoxylate phosphate.
P-15-0705 | 6/22/2016 | 9/19/2016 | CBI | (S) Alkylarylamine used as an additive and octane booster in aviation fuels | (G) Alkylarylamine.
P-15-0706 | 6/22/2016 | 9/19/2016 | CBI | (G) Ingredient for multipurpose exterior coatings | (G) Mixture of aliphatic n-alkyl ureas containing substituted cyclohexyl and terminal alkoxysilane groups.
P-15-0707 | 6/22/2016 | 9/19/2016 | CBI | (G) Ingredient for multipurpose exterior coatings | (G) Mixture of aliphatic n-alkyl ureas containing substituted cyclohexyl and terminal alkoxysilane groups.
P-15-0719 | 6/22/2016 | 9/19/2016 | CBI | (G) Flame retardant synergist | (S) Poly (1,4-diisopropyl benzene).
P-15-0720 | 6/22/2016 | 9/19/2016 | CBI | (S) Polyurethane prepolymer | (G) Aliphatic polyester polyol.
P-15-0721 | 6/22/2016 | 9/19/2016 | CBI | (S) Polyurethane prepolymer | (G) Aliphatic polyester polyol.
P-15-0722 | 6/22/2016 | 9/19/2016 | CBI | (S) Polyurethane prepolymer | (G) Aliphatic polyester polyol.
P-15-0723 | 6/22/2016 | 9/19/2016 | CBI | (S) Polyurethane prepolymer | (G) Aliphatic polyester polyol.
P-15-0724 | 6/22/2016 | 9/19/2016 | CBI | (S) Polyurethane prepolymer | (G) Aliphatic polyester polyol.
P-15-0725 | 6/22/2016 | 9/19/2016 | CBI | (S) Polyurethane prepolymer | (G) Aliphatic polyester polyol.
P-15-0726 | 6/22/2016 | 9/19/2016 | CBI | (S) Co-polymer for use in adhesives and sealant formulations | (G) Triethoxysilylalkoxy polyalkylene glycol.
P-15-0734 | 6/22/2016 | 9/19/2016 | CBI | (S) Wastewater heavy metals removal | (G) Polymeric sulfide.
P-16-0017 | 6/22/2016 | 9/19/2016 | Alcoa, Inc | (S) Blast suppressor for nitrogen based fertilizers | (G) Mixed metals layered double hydroxide.
P-16-0043 | 6/22/2016 | 9/19/2016 | Akzo Nobel Surface Chemistry, LLC | (S) Polymeric corrosion inhibitor downhole oilfield | (S) Amines, tallow alkyl, ethoxylated, polymers with adipic acid.
P-16-0054 | 6/22/2016 | 9/19/2016 | Blaser Swisslube, Inc | (S) Metal working fluid component | (S) Phosphoric acid, mixed 2-hexlydecyl and 2-hexyldodecyl and 2-octyldecyl and 2-octyldodecyl mono- and diesters.
P-16-0086 | 6/22/2016 | 9/19/2016 | CBI | (G) Coating component | (G) Mixed metal oxide-halide complex.
P-16-0092 | 6/22/2016 | 9/19/2016 | CBI | (G) Industrial coatings, open non-dispersive use | (G) Polymeric polyamine.
P-16-0093 | 6/22/2016 | 9/19/2016 | CBI | (G) Ingredient for consumer products, dispersive use | (S) 2-cyclohexen-1-one, 2-methyl-5-propyl-
P-16-0099 | 6/22/2016 | 9/19/2016 | CBI | (G) Aqueous coating | (G) Polyethylene glycol polymer with aliphatic polycarbodiimide, bis(alkoxysilylpropyl)amine blocked.
P-16-0119 | 6/22/2016 | 9/19/2016 | CBI | (G) Intermediate | (G) Chlorofluorocarbon.
P-16-0120 | 6/22/2016 | 9/19/2016 | The Shepherd Color Co | (G) Pigment for anti-corrosive paints | (S) Aluminum vanadium zinc hydroxide oxide.
P-16-0122 | 6/22/2016 | 9/19/2016 | CBI | (G) Intermediate | (G) Chlorofluorocarbon.
P-16-0125 | 6/22/2016 | 9/19/2016 | CBI | (G) Resin for coatings | (G) Alkoxy alkyl substituted alkanoic acid, ion(1-), salts with substituted carbomonocycle substituted heteromonocyclic polymer ester with substituted carbomonocycle alkyl ester-alkyl substituted alkanol reaction products.
P-16-0127 | 6/22/2016 | 9/19/2016 | CBI | (S) Flotation of silica from iron ore and selected non-ferrous minerals | (G) Dialkyl ether ammonium salts.
P-16-0143 | 6/22/2016 | 9/19/2016 | CBI | (G) Chemical intermediate | (G) Haloalkylfurancarboxal dehyde.
P-16-0150 | 6/22/2016 | 9/19/2016 | CBI | (G) Intermediate | (G) Chlorofluorocarbon.
P-16-0151 | 6/22/2016 | 9/19/2016 | CBI | (G) Intermediate | (G) Perfluoropolyether halide.
P-16-0152 | 6/22/2016 | 9/19/2016 | CBI | (G) Intermediate | (G) Perfluoropolyether aryl.
P-16-0153 | 6/22/2016 | 9/19/2016 | CBI | (G) Lubricant additive | (G) Substituted aryl-perfluoropolyether.
P-16-0154 | 6/22/2016 | 9/19/2016 | CBI | (G) Lubricant additive | (G) Sulfonated perfluoropolyether aromatic transition metal salt.
P-16-0155 | 6/22/2016 | 9/19/2016 | CBI | (G) Lubricant additive | (G) Sulfonated perfluoropolyether aryl alkali metal salt.
P-16-0157 | 6/22/2016 | 9/19/2016 | CBI | (G) Fabric Treatment | (G) Fluorinated polyurethane.
P-16-0164 | 6/22/2016 | 9/19/2016 | CBI | (G) Processing aid | (G) Thiocarbamic acid derivative.
P-16-0165 | 6/22/2016 | 9/19/2016 | Dura Chemicals, Inc | (S) Ferrous propionate is a component in a metal organic product that will be used in paint and ink driers, UPR promoters, lube/grease additives, fuel additives, polymerization catalysts, specialty petrochemical catalysts, etc., the amount of the ferrous propionate will be well under 1% in any final product; (S) iron,2-ethylhexanoate propionate complexes is a component in a metal organic product that will be used in paint and ink driers, UPR promoters, lube/grease additives, fuel additives, polymerization catalysts, specialty Petrochemical catalysts, etc., the amount of the Iron, 2-ethyhexanoate propionate complexes will be well under 1% in any final product | (S) Iron, 2-ethylhexanoate propionate complexes.
P-16-0167 | 6/22/2016 | 9/19/2016 | CBI | (S) Light stabilizer for plastic articles | (G) Hindered amine alkyl ester compounds.
P-16-0180 | 6/22/2016 | 9/19/2016 | CBI | (S) Component of industrial and maintenance coatings | (G) Isocyanic acid, polymethylenepolyphen ylene ester, polymer with a-hydro-w-hydroxypoly[oxy(meth yl-1,2-ethanediyl)] and alkylene oxide polymer, alkylamine initiated.
P-16-0186 | 6/22/2016 | 9/19/2016 | CBI | (G) Surfactant | (G) Sodium branched chain alkyl hydroxyl and branched chain alkenyl sulfonates.
P-16-0192 | 6/22/2016 | 9/19/2016 | Evonik Corporation | (S) Reinforcing filler; coupling agent for production of tire/rubber goods | (G) Silanized amorphous silica.
P-16-0194 | 6/22/2016 | 9/19/2016 | CBI | (G) Process aid | (G) Silane-treated aluminosilicate.
P-16-0195 | 6/22/2016 | 9/19/2016 | CBI | (G) Process aid | (G) Silane-treated aluminosilicate.
P-16-0196 | 6/22/2016 | 9/19/2016 | CBI | (G) Process aid | (G) Silane-treated aluminosilicate.
P-16-0197 | 6/22/2016 | 9/19/2016 | CBI | (G) Process aid | (G) Silane-treated aluminosilicate.
P-16-0198 | 6/22/2016 | 9/19/2016 | CBI | (G) Process aid | (G) Silane-treated aluminosilicate.
P-16-0199 | 6/22/2016 | 9/19/2016 | CBI | (G) Process aid | (G) Silane-treated aluminosilicate.
P-16-0205 | 6/22/2016 | 9/19/2016 | CBI | (G) Lubricant Oil; (S) General Industrial Oil; (S) Hydraulic oil | (G) Amide.
P-16-0206 | 6/22/2016 | 9/19/2016 | CBI | (G) Pigment wetting and dispersing additive | (G) Formaldehyde ketone condensate polymer.
P-16-0207 | 6/22/2016 | 9/19/2016 | CBI | (G) Additive for electrolyte solution | (G) Spiro tetrafluoroborate.
P-16-0217 | 6/22/2016 | 9/19/2016 | CBI | (G) Processing aid for ground mineral slurries (open, non dispersive use) | (G) Alkenoic acid, polymer with sodium phosphinate (1:1), mixed salt.
P-16-0218 | 6/22/2016 | 9/19/2016 | Gaco Western | (G) Architectural Coating; (G) Spray Foam Insulation; (G) Reactant: Architectural Coating; (G) Reactant: Spray Foam Insulation | (G) Acetoacetylated glycerin.
P-16-0221 | 6/22/2016 | 9/19/2016 | CBI | (S) Coating agent | (G) Fluorinated organopolysilazane.
P-16-0225 | 6/22/2016 | 9/19/2016 | International Flavors & Fragrances Inc | (S) The notified substance will be used as a fragrance ingredient, being blended (mixed) with other fragrance ingredients to make fragrance oils that will be sold to industrial and commercial customers for their incorporation into soaps, detergents, cleaners, air fresheners, candles and other similar industrial, household and consumer products | (S) Isomer mixture of cyclohexanol, 4-ethylidene-2-propoxy-(cas 1631145-48-6) (35-45%) and cyclohexanol, 5-ethylidene-2-propoxy (cas 1631145-49-7) (45-55%).
P-16-0246 | 6/22/2016 | 9/19/2016 | CBI | (G) Chemical intermediate | (S) 2-pyridinecarboxylic acid, 6-(4-chloro-2-fluoro-3-methoxyphenyl)-4,5-difluoro-, phenylmethyl ester.
P-16-0253 | 6/22/2016 | 9/19/2016 | CBI | (G) Fatty acid based glyceride blend | (G) Partial esters of fatty acids with glycerol.
P-16-0255 | 6/22/2016 | 9/19/2016 | CBI | (S) Blocked catalyst for paint and coatings | (S) 1-butanaminium, n,n,n-tributyl-, ethyl carbonate (1:1).
P-16-0256 | 6/22/2016 | 9/19/2016 | CBI | (S) Blocked catalyst for paint and coatings | (S) 1-butanaminium, n,n,n-tributyl-, ethyl carbonate (1:1).
P-16-0257 | 6/22/2016 | 9/19/2016 | CBI | (S) Blocked catalyst for paint and coatings | (S) 1-butanaminium, n,n,n-tributyl-, methyl carbonate (1:1).
P-16-0258 | 6/22/2016 | 9/19/2016 | CBI | (S) Blocked catalyst for paint and coatings | (S) 1-butanaminium, n,n,n-tributyl-, ethyl carbonate (1:1).
P-16-0259 | 6/22/2016 | 9/19/2016 | CBI | (S) Blocked catalyst for paint and coatings | (S) 1-butanaminium, n,n,n-tributyl-, ethyl carbonate (1:1).
P-16-0261 | 6/22/2016 | 9/19/2016 | CBI | (S) Intermediate | (S) Propanoic acid, 3-(dimethylamino)-2-methyl-, methyl ester.
P-16-0271 | 6/22/2016 | 9/19/2016 | Oxea Corporation | (S) Flexible PVC plasticizer for wire insulation | (S) 1,2,4-benzenetricarboxylic acid, 1,2,4-trinonyl ester.
P-16-0273 | 6/22/2016 | 9/19/2016 | CBI | (G) Ingredient in metal working fluid | (G) Alkyl heteromonocycle, polymer with heteromonocycle, carboxyalkyl alkyl ether.
P-16-0274 | 6/22/2016 | 9/19/2016 | CBI | (G) Ingredient in metal working fluids | (G) Alkyl heteromonocycle, polymer with heteromonocycle, carboxyalkyl alkyl ether.
P-16-0275 | 6/22/2016 | 9/19/2016 | CBI | (G) Surfactant | (G) Rhamnolipid salt.
P-16-0276 | 6/22/2016 | 9/19/2016 | CBI | (G) Surfactant | (G) Rhamnolipid salt.
P-16-0280 | 6/22/2016 | 9/19/2016 | CBI | (G) Co-initiator | (G) Polyether polyol with aromatic dialkylamine.
P-16-0281 | 6/22/2016 | 9/19/2016 | CBI | (G) Reactive polyol | (G) Fatty alcohols—dimers, trimmers, polymers.
P-16-0282 | 6/22/2016 | 9/19/2016 | CBI | (S) Paint dryier | (G) Manganese complexes.
P-16-0283 | 6/22/2016 | 9/19/2016 | Allnex USA, Inc | (S) Resin for automotive coatings | (G) Alkanedioic acid, polymer with substituted carbomonocycle, substituted alkane, substituted alkanoic acid and substituted alkyldiamine, compd. with substituted alkanol.
P-16-0284 | 6/22/2016 | 9/19/2016 | Deepak Nitrite Corporation, Inc | (S) Optical Brightener for Textiles, Paper and Paperboard | (G) Anilino substituted bis-triazinyl derivative of 4,4′-diaminostilbene-2,2′disulfonic acid.
P-16-0285 | 6/22/2016 | 9/19/2016 | CBI | (G) Intermediate | (G) Ester amine.
P-16-0286 | 6/22/2016 | 9/19/2016 | CBI | (G) Wellbore additive | (G) Quaternary ammonium salts.
P-16-0287 | 6/22/2016 | 9/19/2016 | CBI | (G) Hardener for epoxy coating | (G) Alkanoic acid, 2-substituted-methyl ester, reaction products with aromatic diamine-[alkanediylbis(oxymethylene)]bis[oxirane]polymer.
P-16-0289 | 6/22/2016 | 9/19/2016 | CBI | (G) Extrusion compounding resin molding resin | (G) Semi-aromatic polyamide.
P-16-0290 | 6/22/2016 | 9/19/2016 | CBI | (G) Fuel additive | (G) Copolymer of maleic acid and olefin.
P-16-0291 | 6/22/2016 | 9/19/2016 | CBI | (G) Curing Agent | (G) 1,3-cyclohexanedimethanamine adduct.
P-16-0292 | 6/22/2016 | 9/19/2016 | CBI | (S) Intermediate for use in the manufacture of polymers | (G) Depolymerized waste plastics.
P-16-0293 | 6/22/2016 | 9/19/2016 | Charkit Chemical Corp | (S) Compounding of fragrance for industrial cleaners/janitorial compounds, detergents, etc | (S) Octanoic acid, phenylmethyl ester.
P-16-0299 | 6/22/2016 | 9/19/2016 | CBI | (S) Reactive (meth)acrylate oligomer for ultra violet cured 3D printed parts | (G) Polyurethane, methacrylate-blocked.
P-16-0300 | 6/22/2016 | 9/19/2016 | H.B. Fuller Company | (G) Industrial adhesive | (G) Oxirane, 2-methyl-, polymer with 1,3-xylylene diisocyanate and oxirane, 3-(trimethoxysilyl)propyl isocyanate.
P-16-0301 | 6/22/2016 | 9/19/2016 | CBI | (G) Intermediate | (G) Propyl silsesquioxanes, hydrogen-terminated.
P-16-0302 | 6/22/2016 | 9/19/2016 | CBI | (G) Plastic additive | (G) Organic modified propyl silsesquioxane.
P-16-0303 | 6/22/2016 | 9/19/2016 | CBI | (G) Use for the production of acrylic resin for waterborne exterior coatings composition | (G) Alkyl methyacrylate polymer with styrene, amino acrylate and acrylic acid, ammonium salt.
P-16-0304 | 6/22/2016 | 9/19/2016 | CBI | (G) Industrial Adhesive | (G) Polyurea grease.
P-16-0305 | 6/22/2016 | 9/19/2016 | CBI | (G) Industrial Adhesive | (G) Polyurea grease.
P-16-0306 | 6/22/2016 | 9/19/2016 | CBI | (G) PhotoInitiator | (G) Polyether polyol polymer with aromatic ester.
P-16-0307 | 6/22/2016 | 9/19/2016 | CBI | (G) Open, non dispersive use | (G) Heteropolycycliccarboxylic acid, 1,3-dihydro-disubstituted-, polymer with 1,1′-methylenebis[4-isocyanatobenzene], reaction products with silica.
P-16-0308 | 6/22/2016 | 9/19/2016 | Itaconix Corp | (G) Reactive monomer | (S) Butanedioic acid, 2-methylene-, 1,4-bis (2-methylpropyl) ester.
P-16-0309 | 6/22/2016 | 9/19/2016 | CBI | (G) PMN substances are intended for use as rheological or thixotropic agents used in the production of solvent based industrial coatings, high solid aromatic paints, adhesives, sealants, and other types of paints and topcoats | (G) Bisamide mixture.
P-16-0310 | 6/22/2016 | 9/19/2016 | CBI | (G) PMN substances are intended for use as rheological or thixotropic agents used in the production of solvent based industrial coatings, high solid aromatic paints, adhesives, sealants, and other types of paints and topcoats | (G) Bisamide mixture.
P-16-0311 | 6/22/2016 | 9/19/2016 | CBI | (S) Coatings for wood, metal and plastic | (G) Aromatic dicarboxylic acid, polymer with cycloalkanemethanol, alkanediamine, alkanedioic acid, hydroxy-2-(hydroxyalkyl)-2-alkylcarboxylic acid, methylenebis[isocyanat ocycloalkane] and [(methylethylidene)bis(phenyleneoxy)]bis[alka nol].
P-16-0312 | 6/22/2016 | 9/19/2016 | CBI | (S) Coatings for wood, metal and plastic | (G) Aromatic dicarboxylic acid, polymer with cycloalkanemethanol, alkanediamine, alkanedioic acid, hydroxy-2-(hydroxyalkyl)-2-alkylcarboxylic acid, methylenebis[isocyanat ocycloalkane] and [(methylethylidene)bis(phenyleneoxy)]bis[alka nol].
P-16-0313 | 6/22/2016 | 9/19/2016 | Honeyol, Inc | (S) Use in production of resins (raw material used in the production of resins) | (S) Tar acids (shale oil), c6?9 fraction, alkylphenols, low-boiling.
P-16-0314 | 6/22/2016 | 9/19/2016 | Firmenich, Inc | (G) As part of a fragrance formula | (S) Ethanone, 1-(5-propyl-1,3-benzodioxol-2-yl)-.
P-16-0315 | 6/22/2016 | 9/19/2016 | CBI | (S) Industrial rubber formulation | (G) Alkyldiene, polymer, terminated alkoxysilylalkylcarbamate.
P-16-0316 | 6/22/2016 | 9/19/2016 | CBI | (G) Drilling chemical | (G) Aliphatic polyester.
P-16-0317 | 6/22/2016 | 9/19/2016 | CBI | (G) Drilling chemical | (G) Aliphatic polyester.
P-16-0318 | 6/22/2016 | 9/19/2016 | CBI | (G) Additive for Pulp and Paper Processing; (G) Additive for car wash applications; (G) Additive for metal working fluids; (G) Additive for textile applications; (G) Processing aide in oil field applications | (G) Ammonium sulfate, fatty acid esters.
P-16-0319 | 6/22/2016 | 9/19/2016 | CBI | (G) Additive for pulp and paper processing; (G) Additive for car wash applications; (G) Additive for metal working fluids; (G) Additive for textile applications; (G) Processing aide in oil field applications | (G) Ammonium sulfate, fatty acid esters.
P-16-0320 | 6/22/2016 | 9/19/2016 | CBI | (G) Additive for pulp and paper processing; (G) Additive for car wash applications; (G) Additive for metal working fluids; (G) Additive for textile applications; (G) Processing aide in oil field applications | (G) Ammonium sulfate, fatty acid esters.
P-16-0321 | 6/22/2016 | 9/19/2016 | CBI | (G) Additive for Pulp and Paper Processing; (G) Additive for car wash applications; (G) Additive for metal working fluids; (G) Additive for textile applications; (G) Processing aide in oil field applications | (G) Ammonium sulfate, fatty acid esters.
P-16-0322 | 6/22/2016 | 9/19/2016 | CBI | (G) Pulp Bleaching Catalyst; (G) Textile Bleaching Catalyst | (G) Manganese cyclic (tri)amine chloride complex.
P-16-0323 | 6/22/2016 | 9/19/2016 | Allnex USA, Inc | (G) Coating resin | (G) Formaldehyde, reaction products with substituted carbomonocycle-substituted heteromonocycle-alkylene glycol bis [[[substituted(oxoneoalky)oxy]alkyl]amino]alky] ether polymer and alkyl substituted alkanediamine, acetate (salts).
P-16-0324 | 6/22/2016 | 9/19/2016 | CBI | (G) Adhesive for open non-descriptive use | (G) Uv-curable urethane acrylate.
P-16-0325 | 6/22/2016 | 9/19/2016 | CBI | (G) Oil & gas extraction | (G) Polymer of substituted acrylic acid and bromohexane.
P-16-0326 | 6/22/2016 | 9/19/2016 | Firmenich, Inc | (G) As part of a fragrance formula | (S) Propanoic acid, 2,2-dimethyl-,1-methyl-2-(1-methylethoxy)-2-oxoethyl ester.
P-16-0327 | 6/22/2016 | 9/19/2016 | CBI | (G) additive in rubber tires | (G) Alkenoic acid, polymer with alkylalkenoate, sodium salt.
P-16-0328 | 6/22/2016 | 9/19/2016 | CBI | (G) Adhesive component; (G) Intermediate | (G) Terephthalic acid, polymer with alkanepolycarboxylic acids, alkanepolyols, isophthalic acid, polyetherpolyol, 1,1-methylenebis[isocyanatobenzene], phthalic anhydride and a substituted alkanepolyol.
P-16-0329 | 6/22/2016 | 9/19/2016 | CBI | (G) Adhesive component | (G) Polymer of alkanepolycarboxylic acids, alkanepolyols, isophthalic acid, polyetherpolyols, 1,1-methylenebis[isocyanatobenzene], terephthalic acid, phthalic anhydride and a substituted alkanepolyol.
P-16-0330 | 6/22/2016 | 9/19/2016 | H.B. Fuller Company | (G) Industrial Adhesive | (G) Hydroxy functional triglyceride polymer with glycerol mono-ester and 1,1′-methylenebis[isocyanatobenzene].
P-16-0331 | 6/22/2016 | 9/19/2016 | H.B. Fuller Company | (G) Industrial Adhesive | (G) Hydroxy functional triglyceride polymer with glycerol mono-ester and 1,1′-methylenebis[4-isocyanatobenzene].
P-16-0332 | 6/22/2016 | 9/19/2016 | CBI | (G) Component of coating | (G) Carbomonocycle phosphate metal salt.
P-16-0333 | 6/22/2016 | 9/19/2016 | Charkit Chemical Corp | (S) Compounding of fragrance for industrial cleaners/janitorial compounds, detergents, etc | (S) 2-hexyldecanal.
P-16-0333 | 6/22/2016 | 9/19/2016 | Charkit Chemical Corp | (S) Compounding of fragrance for industrial cleaners/janitorial compounds, detergents, etc | (S) 8-pentadecanone.
P-16-0333 | 6/22/2016 | 9/19/2016 | Charkit Chemical Corp | (S) Compounding of fragrance for industrial cleaners/janitorial compounds, detergents, etc | (S) Methylpentadecanone (unspecified).
P-16-0334 | 6/22/2016 | 9/19/2016 | Lamberti USA Inc | (G) Additive for Industrial Purposes | (G) Polymeric amide.
P-16-0335 | 6/22/2016 | 9/19/2016 | Lamberti USA, Inc | (G) Additive for Industrial Purposes | (G) Polymeric amide.
P-16-0336 | 6/22/2016 | 9/19/2016 | CBI | (G) Fuel additive—destructive use | (G) Polyolefin ester.
P-16-0337 | 6/22/2016 | 9/19/2016 | CBI | (S) Monomer | (G) Aliphatic acrylate.
P-16-0338 | 6/22/2016 | 9/19/2016 | CBI | (G) Dyestuff | (G) Substituted xanthene derivative.
P-16-0339 | 6/22/2016 | 9/19/2016 | CBI | (G) Dyestuff | (G) Azo derivatives.
P-16-0340 | 6/22/2016 | 9/19/2016 | Solazyme, Inc | (G) Feedstock for oleochemical industry; (G) Renewable oil source for fuels | (G) Glycerides, c8-18 and c18 unsaturated, from fermentation.
P-16-0341 | 6/22/2016 | 9/19/2016 | Perstorp Polyols | (G) Elastomer; (S) Industrial coatings; (S) Adhesive components | (S) 2-oxepanone, homopolymer, ester with 1,6-hexanediol.
P-16-0342 | 6/22/2016 | 9/19/2016 | CBI | (S) Modified acrylic polymer used as a dispersant for deflocculation of pigments in industrial paints and coatings | (G) Modified acrylic polymer.
P-16-0343 | 6/22/2016 | 9/19/2016 | CBI | (S) Modified urethane polymer used as a dispersant for deflocculation of pigments in industrial paints and coatings | (G) Modified urethane polymer.
P-16-0344 | 6/22/2016 | 9/19/2016 | CBI | (S) Modified acrylic polymer used as a dispersant for deflocculation of pigments in industrial paints and coatings | (G) Modified urethane polymer.
P-16-0345 | 6/22/2016 | 9/19/2016 | CBI | (G) Processing aid | (G) Acrylamide, polymer with methacrylic acid derivatives.
P-16-0346 | 6/22/2016 | 9/19/2016 | H.B. Fuller Company | (G) Industrial Adhesive | (G) Alkylamine with isocyanate.
P-16-0347 | 6/22/2016 | 9/19/2016 | H.B. Fuller Company | (G) Industrial Adhesive | (G) Alkylamine with isocyanate.
P-16-0348 | 6/22/2016 | 9/19/2016 | CBI | (G) Industrial lubricant | (G) Polypentaerythritol, mixed esters with linear and branched monoacids.
P-16-0349 | 6/22/2016 | 9/19/2016 | CBI | (G) Fuel additive | (G) Quaternary ammonium salt of polyisobutene succinic acid.
P-16-0350 | 6/22/2016 | 9/19/2016 | CBI | (G) Polymer reactant | (G) Polyaralkyl aryl ester of methacrylic acid.
P-16-0351 | 6/22/2016 | 9/19/2016 | Solazyme, Inc | (G) Feedstock for oleochemical industry; (G) Renewable oil source for fuels | (G) Glycerides, c14-18 and c16-c18 unsaturated, from fermentation.
P-16-0352 | 6/22/2016 | 9/19/2016 | CBI | (G) Industrial catalyst | (G) Reaction product of hydroxybenzaldehyde and fatty alkyl amine ether.
P-16-0353 | 6/22/2016 | 9/19/2016 | Gantrade Corp | (S) Chain extender and curative for use in polymer manufacturing | (S) Benzenamine, 4-[(4-amino-3-chlorophenyl)methyl]-2-ethyl-
P-16-0354 | 6/22/2016 | 9/19/2016 | CBI | (G) Intermediate | (G) Esteramine.
P-16-0355 | 6/22/2016 | 9/19/2016 | CBI | (G) Intermediate | (G) Esteramine.
P-16-0356 | 6/22/2016 | 9/19/2016 | CBI | (G) Wellbore additive | (G) Quaternary ammonium salts.
P-16-0357 | 6/22/2016 | 9/19/2016 | CBI | (G) Wellbore additive | (G) Quaternary ammonium salts.
P-16-0358 | 6/22/2016 | 9/19/2016 | CBI | (S) Intermediate for further polymer reaction | (G) Alkyl phenol.
P-16-0359 | 6/22/2016 | 9/19/2016 | Dic International (USA), LLC | (G) Pigment additives for industrial coatings | (G) Carbopolycycle-bis(diazonium), dihalo-, chloride (1:2), reaction products with metal hydroxide, 4-[(dioxoalkyl)amino]substituted benzene, 2-[(dioxoalkyl)amino]substituted benzene, 5-[(dioxoalkyl)amino]-2-hydroxy-substituted benzene and oxo-n-phenylalkanamide.
P-16-0360 | 6/22/2016 | 9/19/2016 | Oleon Americas, Inc | (G) Fuel additive | (S) Poly (oxy-1,2-ethanediyl), alpha-(1-oxodocosyl)-omega-[(1-oxodocosyl)oxy]-
P-16-0361 | 6/22/2016 | 9/19/2016 | American Process Inc | (G) Binders | (S) Pulp, cellulose, reaction products with lignin [nanocrystals].
P-16-0362 | 6/22/2016 | 9/19/2016 | American Process Inc | (G) Binders; (G) Plastic reinforcement; (G) Viscosifying agent | (S) Pulp, cellulose, reaction products with lignin [nanofibrils].
P-16-0363 | 6/22/2016 | 9/19/2016 | CBI | (G) Open, non-dispersive | (G) Blocked polyester polyurethane, neutralized.
P-16-0364 | 6/22/2016 | 9/19/2016 | CBI | (G) Intermediate used completely on site | (G) Nitrile-butadiene-acrylate terpolymers.
P-16-0365 | 6/22/2016 | 9/19/2016 | Allnex USA, Inc | (S) UV Curable coating resin | (G) Alkyl carbonate, polymer with, substituted alkanes and substituted heteromonocycle, substituted alkyl acrylate-blocked.
P-16-0366 | 6/22/2016 | 9/19/2016 | CBI | (G) Open, non-dispersive | (G) Blocked polyisocyanate.
P-16-0367 | 6/22/2016 | 9/19/2016 | Allnex USA, Inc | (S) UV curable coating resin | (G) Substituted heteromonocycle, polymer with substituted alkane and ethoxylated alkane, substituted heteromonocycle substituted alkyl ester-blocked.
P-16-0368 | 6/22/2016 | 9/19/2016 | CBI | (S) Adhesive Coating for Carpet Backing | (G) Aromatic dicarboxylic acid, polymer with adipic acid and alkanediol.
P-16-0369 | 6/22/2016 | 9/19/2016 | Allnex USA, Inc | (S) Ultra violet curable coating resin | (G) Substituted heteromonocycle, telomer with substituted carbomonocycles, substituted alkyl ester.
P-16-0370 | 6/22/2016 | 9/19/2016 | CBI | (G) Crosslinker for adhesives and coatings | (G) Polysiloxane with functional groups.
P-16-0371 | 6/22/2016 | 9/19/2016 | CBI | (G) Wetting and dispersing additive | (G) Polyester polymer phosphate ester alkyl alkyl.
P-16-0372 | 6/22/2016 | 9/19/2016 | CBI | (G) Wetting and dispersing additive | (G) Polyester phosphate alkyl alkyl esters.
P-16-0373 | 6/22/2016 | 9/19/2016 | CBI | (S) UV absorber for plastic articles | (G) Tris(alkyloxyphenyl)tri azine compounds.
P-16-0374 | 6/22/2016 | 9/19/2016 | CBI | (G) Oil additive | (G) Metal branched alkyl substituted carbomonocycle complexes with substituted alkyl carbomonocycle.
P-16-0375 | 6/22/2016 | 9/19/2016 | CBI | (G) Binder for seal application | (G) Alkyl methacrylates, polymer with olefines.
P-16-0376 | 6/22/2016 | 9/19/2016 | CBI | (G) Photolithography | (G) Hydroxystyrene resin.
P-16-0377 | 6/22/2016 | 9/19/2016 | CBI | (G) Film component | (G) Polyester polyol.
P-16-0378 | 6/22/2016 | 9/19/2016 | CBI | (G) Film component | (G) Polyester polyol.
P-16-0379 | 6/22/2016 | 9/19/2016 | CBI | (G) Intermediate for polymer synthesis | (G) Vinyl functional polymethylalkylpolymer.
P-16-0380 | 6/22/2016 | 9/19/2016 | CBI | (G) Component of electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0381 | 6/22/2016 | 9/19/2016 | CBI | (G) Component of electrocoat resin | (G) Propanoic acid, 2-hydroxy-, compds. With hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0382 | 6/22/2016 | 9/19/2016 | CBI | (G) Component of electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0383 | 6/22/2016 | 9/19/2016 | CBI | (S) Anti-crater additive for automotive electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0384 | 6/22/2016 | 9/19/2016 | CBI | (G) Component of electrocoat resin | (G) Propanoic acid, 2-hydroxy-, compds. With hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0385 | 6/22/2016 | 9/19/2016 | CBI | (G) Component of electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0386 | 6/22/2016 | 9/19/2016 | CBI | (S) Additive for motor oil formulations and gear oil lubricants. The compound serves two primary functions. It acts as a seal swell additive. The elastomers used in the seals of the motor/gear box will absorb a small amount of the chemical compound and swell. This prevents seals from leaking and gives them a longer service life. The chemical also serves as a boundary lubricant. The two ester groups make this compound polar The polarity causes the compound to be attracted to metal surfaces and adhere. This creates a boundary layer between the metal surface and the bulk primary lubricant used in the motor/gear oil formulation | (S) Hexanedioic acid, 1,6-bis(3,5,5-trimethylhexyl) ester.
P-16-0387 | 6/22/2016 | 9/19/2016 | CBI | (G) Additives for polymers | (G) Aliphatic polycarboxylic acid, polymer with alicyclic polyhydric alcohol and polyoxyalkylene.
P-16-0388 | 6/22/2016 | 9/19/2016 | CBI | (G) Hardener for epoxy coating | (G) Aliphatic polyamines, polymers with bisphenol A and epichlorohydrin.
P-16-0389 | 6/22/2016 | 9/19/2016 | CBI | (G) Oil & gas extraction | (G) Polymer of substituted acrylic acid, mercaptoethanol and bromohexane.
P-16-0390 | 6/22/2016 | 9/19/2016 | CBI | (S) Coating resin used in anti-fogging clear coat applied to automotive parts | (G) Alkyl alkenoic acid alkyl ester polymer with alkyl alkenoate, dialkyl alkenamide, hydroxy-modified alkenoic acid derivative, and sulfonic-modified alkenoic acid derivative.
P-16-0391 | 6/22/2016 | 9/19/2016 | CBI | (G) Stabilizer | (G) Polyester polyol polymer with aliphatic isocyanate and phenol derivates.
P-16-0392 | 6/22/2016 | 9/19/2016 | CBI | (G) Wax | (G) Modified vegetable oil.
P-16-0393 | 6/22/2016 | 9/19/2016 | CBI | (S) Plasticizer for use with polymers | (G) Di-substituted benzenedicarboxylic acid ester.
P-16-0394 | 6/22/2016 | 9/19/2016 | CBI | (G) Adhesive | (G) Benzenedicarboxylic acid, polymer with decanedioic acid and dodecanedioic acid, ethanediol, hexanedioic acid, hexanediol, alpha-hydro-omega-hydroxypoly[oxy(methyl-1,2-ethanediyl)], isobenzofurandione,1,1′-methylenebis[4-isocyanatobenzene], phenol and trimethylbicyclo hept-2-ene.
P-16-0395 | 6/22/2016 | 9/19/2016 | CBI | (S) Polymeric intermediate for the production of acrylic polymers for industrial coatings | (G) Methacrylic acid, polymer with alkyl methacrylates and substituted acrylamide, ammonium salt.
P-16-0396 | 6/22/2016 | 9/19/2016 | CBI | (G) Specialty chemical for processing additive | (G) Alkylaminium hydroxide.
P-16-0398 | 6/22/2016 | 9/19/2016 | CBI | (G) Corrosion Inhibitor | (G) Di-ammonium di-carboxylate.
P-16-0399 | 6/22/2016 | 9/19/2016 | TryEco LLC | (S) Agricultural soil amendment for filed crops, seed coating and turf | (S) Starch, polymer with 2-propenoic acid, potassium salt. oxidized.
P-16-0400 | 6/22/2016 | 9/19/2016 | Shell Chemical, LP | (S) Agrochemical; (S) Chemical Intermediate; (S) Metalworking Fluid Use; (S) Use in cleaning Fluids; (S) Use in Cured Coatings | (S) Alkanes, C11-16-branched and linear.
P-16-0401 | 6/22/2016 | 9/19/2016 | CBI | (G) Adhesive | (G) Propenoic acid alkyl ester, polymer with alkyl acrylate, isooctyl substituted, alkyl diol, alkyl diol propenoate, alkyl-oxycarbamate.
P-16-0402 | 6/22/2016 | 9/19/2016 | CBI | (S) Flotation additive for use in mineral processing | (G) Propanediamine, [(isoalkyloxy)propyl] derivs., salts.
P-16-0403 | 6/22/2016 | 9/19/2016 | CBI | (G) Open, non dispersive use | (G) Heteropolycyclic carboxylic acid, polymer with 2-ethyl-2-(hydroxymethyl)-1,3-propanediol and 4-substitutedbenzene, substituted carbomonocycle-and alkyl-substituted carbomonocycle-blocked.
P-16-0404 | 6/22/2016 | 9/19/2016 | CBI | (G) A colorant for dyeing various synthetic fibers and fabrics. Open, non-dispersive use | (G) Alkyl ester, 2-({4-[2-(trisubstituted phenyl)azo]-5-acetamido-2-substitutedphenyl} (substituted alkoxy)amino).
P-16-0405 | 6/22/2016 | 9/19/2016 | CBI | (G) A colorant for dyeing various synthetic fibers and fabrics. Open, non-dispersive use | (G) Alkyl ester, 2-({5-acetamido-2-alkoxy-4-[2-(substituted-2,1-benzothiazol-3-yl)azo]pheny]}(disubsti tuted)amino).
P-16-0406 | 6/22/2016 | 9/19/2016 | CBI | (G) Coating | (G) Functionalized polyimide.
P-16-0407 | 6/22/2016 | 9/19/2016 | CBI | (G) Coating | (G) Functionalized polyamide.
P-16-0408 | 6/22/2016 | 9/19/2016 | CBI | (G) A colorant for dyeing various synthetic fibers and fabrics. Open, non-dispersive use | (G) 3-pyridinecarbonitrile, 1,2-dihydro-trisubstituted-5-[2-(disubstituted phenyl)azo]-2-oxo.
P-16-0409 | 6/22/2016 | 9/19/2016 | CBI | (G) chemical intermediate for the synthesis of another substance | (G) Alkylphenol.
P-16-0410 | 6/22/2016 | 9/19/2016 | CBI | (G) Automotive engine fluid additive | (G) Silicophosphonate-sodium silicate.
P-16-0411 | 6/22/2016 | 9/19/2016 | CBI | (G) Crosslinking agent | (G) Substituted polyalkylene polycarbomonocyclic ester, polymer with polyalkylene glycol, alkoxyalkanol blocked.
P-16-0412 | 6/22/2016 | 9/19/2016 | Cardolite Corporation | (G) Epoxy Coating | (G) Cashew, nutshell liq., polymer with amine and formaldehyde.
P-16-0413 | 6/22/2016 | 9/19/2016 | Siltech LLC | (S) anti-fingerprint material for a metal coating application | (S) Siloxanes and silicones, di-me, 3-hydroxypropyl me, me 3,3,4,4,5,5,6,6,6-nonafluorohexyl.
P-16-0414 | 6/22/2016 | 9/19/2016 | CBI | (S) Polymerized pigment used in the manufacture of electronic inks | (G) Dimethylsiloxane methyl methacrylate copolymer.
P-16-0415 | 6/22/2016 | 9/19/2016 | CBI | (G) coating for oil and gas industry | (G) Polyurethane.
P-16-0417 | 6/22/2016 | 9/19/2016 | CBI | (G) Adhesive for open, non-descriptive use | (G) Isocyanate terminated polyurethane resin.
P-16-0418 | 6/22/2016 | 9/19/2016 | CBI | (G) A colorant for dyeing various synthetic fibers and fabrics. Open, non-dispersive use | (G) 6-(disubstituted-phenyl azo)-4,7-disubstituted-quinolinepropanoic acid, alkyl ester.
P-16-0419 | 6/22/2016 | 9/19/2016 | CBI | (G) Use as intermediate | (G) N-alkyl-dialkylpiperidine.
P-16-0420 | 6/22/2016 | 9/19/2016 | CBI | (S) The notified substance will be used as a fragrance ingredient, being blended (mixed) with other fragrance ingredients to make fragrance oils that will be sold to industrial and commercial customers for their incorporation into soaps, detergents, cleaners and other similar household and consumer products | (G) Dimethyl cyclohexenyl propanol.
P-16-0421 | 6/22/2016 | 9/19/2016 | Guardian Industries Corp | (S) Additive to facilitate melting of sand during manufacture of glass | (S) Flue dust, glass manufg. desulfurization definition: the dust produced from the flue gas exhaust cleaning of a glass manufacturing process using carbonate containing substances. it consists primarily of na2so4, na2co3, and na4(so4)(co3).
P-16-0422 | 6/22/2016 | 9/19/2016 | CBI | (G) Additive for Polymers | (S) 1,2- cyclohexanedicarboxylic acid, 1-(phenylmethyl) ester, ester with 2,2,4-trimethyl-1,3-pentanediol mono(2-methylpropanoate).
P-16-0423 | 6/22/2016 | 9/19/2016 | CBI | (G) Intermediate | (G) Tetraalkylpiperidinium halide.
P-16-0424 | 6/22/2016 | 9/19/2016 | CBI | (G) Directing agent | (G) Tetraalkylpiperidinium hydroxide.
P-16-0425 | 6/22/2016 | 9/19/2016 | CBI | (G) A chemical reactant used in manufacturing a polymer | (G) Amino-silane.
P-16-0426 | 6/22/2016 | 9/19/2016 | CBI | (G) Lubricating oil additive | (G) Alkenyl bis-succinimide.
P-16-0427 | 6/22/2016 | 9/19/2016 | CBI | (G) adhesive | (G) Alkanedioic acid polymer with ethenylbenzene alky-2-alkenoate, alkanediol, .alpha.-hydro-.omega.-hydroxypoly[oxyalkyl-alkanediyl)], hydroxyalkyl-alkyl-alkenoate, and aromatic isocyanate.
P-16-0428 | 6/22/2016 | 9/19/2016 | Cardolite Corporation | (S) Industrial | (G) Phenol, formaldehyde and amine.
P-16-0429 | 6/22/2016 | 9/19/2016 | CBI | (G) Universal tint paste resin having high solids | (G) Endcapped polysiloxane.
P-16-0430 | 6/22/2016 | 9/19/2016 | CBI | (G) Filler | (S) Pentanedioic acid, 2-methyl-
P-16-0432 | 6/22/2016 | 9/20/2016 | CBI | (S) Additive for flotation products used in ore processing | (G) Fatty acid amidoamine acetates.
P-16-0433 | 6/22/2016 | 9/20/2016 | CBI | (S) Additive for flotation products used in ore processing | (G) Fatty acid amidoamine acetates.
P-16-0434 | 6/22/2016 | 9/20/2016 | CBI | (S) Additive for flotation products used in ore processing | (G) Fatty acid amidoamine acetates.
P-16-0435 | 6/22/2016 | 9/20/2016 | CBI | (S) Additive for flotation products used in ore processing | (G) Fatty acid amidoamine acetates.
P-16-0436 | 6/22/2016 | 9/20/2016 | CBI | (S) Additive for flotation products used in ore processing | (G) Fatty acid amidoamine acetates.
P-16-0437 | 6/22/2016 | 9/20/2016 | CBI | (S) Additive for flotation products used in ore processing | (G) Fatty acid amidoamine acetates.
P-16-0439 | 6/30/2016 | 9/28/2016 | CBI | (G) coloring agent | (G) Modified carbon black.
P-16-0440 | 6/30/2016 | 9/28/2016 | CBI | (G) coloring agent | (G) Modified carbon black.
P-16-0441 | 6/23/2016 | 9/21/2016 | CBI | (G) Oilfield additive | (G) Formaldehyde, reaction products with amine-alkylamine reaction products ether amine derivs. residues.
P-16-0442 | 6/23/2016 | 9/21/2016 | CBI | (G) Polymer for coatings | (G) Amine salted polyurethane.
P-16-0443 | 6/23/2016 | 9/21/2016 | CBI | (G) Polymer for coatings | (G) Amine salted polyurethane.
P-16-0444 | 6/23/2016 | 9/21/2016 | CBI | (G) Polymer for coatings | (G) Amine salted polyurethane.
P-16-0445 | 6/23/2016 | 9/21/2016 | CBI | (G) Polymer for coatings | (G) Amine salted polyurethane.
P-16-0446 | 7/8/2016 | 10/6/2016 | Allnex USA Inc | (S) Resin in architectural primer coatings | (G) Fatty acids, reaction products with alkylamine, polymers with substituted carbomonocycle, substituted alkylamines, heteromonocycle and substituted alkanoate, lactates (salts),
P-16-0447 | 6/24/2016 | 9/22/2016 | CBI | (G) Additive for coatings | (G) Alkyl alkenoate, dialkyl alkanediyl, polymer with alkyl alkenoate, substituted carbomonocycle, alkyl alkenoate and heteromonocycle alkyl alkenoate, diazene bis alkyl heteromonocycle initiated.
P-16-0448 | 6/27/2016 | 9/25/2016 | CBI | (G) Oil additive | (G) Metal salts branched alkyl substituted carbomonocycle with substituted alkyl carbomonocycle complexes.
P-16-0449 | 6/27/2016 | 9/25/2016 | CBI | (S) Use per FFDCA: Cosmetics; (S) Use per TSCA: Fragrance uses; scented papers, detergents, candles etc | (S) 2,7-decadienal, (2e,7z)-
P-16-0453 | 6/29/2016 | 9/27/2016 | Miwon North America, Inc | (S) Resin for Industrial Coating | (G) Polyester acrylate.
P-16-0454 | 6/30/2016 | 9/28/2016 | CBI | (G) material for highly dispersive use in consumer products | (G) Trisubstituted alkenol.
SN-03-0015 | 6/22/2016 | 9/19/2016 | Degussa Corporation | (S) Anti-graffiti systems; surface treatment of fabrics and porous mineral surfaces | (G) Fluoro/amino silane mixture.
SN-03-0016 | 6/22/2016 | 9/19/2016 | Degussa Corporation | (S) Anti-soiling surface treatment of glass and ceramic surfaces | (S) Silane, triethoxy(3,3,4,4,5,5,6,6,7,7,8,8,8-tridecafluorooctyl)-
SN-12-0005 | 6/22/2016 | 9/19/2016 | CBI | (G) Additive, open, non-dispersive | (G) Multi-walled carbon nanotubes.
SN-15-0004 | 6/22/2016 | 9/19/2016 | CBI | (S) Slurry dispersion to be blended with coating compound and applied to fabric | (G) Brominated compounds.
SN-15-0009 | 6/22/2016 | 9/19/2016 | CBI | (G) Polymer additive | (G) Fatty acid amide.
SN-16-0005 | 6/22/2016 | 9/19/2016 | CBI | (G) Abrasion resistant applications | (G) Potassium titanate.
SN-16-0009 | 6/22/2016 | 9/19/2016 | CBI | (G) Additive for household products. | (G) Trialkylol homopolymer.
SN-16-0011 | 6/22/2016 | 9/219/2016 | CBI | (S) Component of infrared absorption material | (G) Cesium tungstate.
SN-16-0012 | 6/22/2016 | 9/20/2016 | CBI | (S) Additive for flotation products; (S) Chemical intermediate | (G) Fatty acid amidoamine.

Authority: 15 U.S.C. 2601 et seq.

Dated: October 21, 2016.
Pamela Myrick,
Director, Information Management Division, Office of Pollution Prevention and Toxics.

[FR Doc. 2016-26021 Filed 10-26-16; 8:45 am]

BILLING CODE 6560-50-P